DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR should be received no later than May 31, 2016.

ADDRESSES: Submit your comments to paperwork@hrsa.gov or mail the HRSA Information Collection Clearance Officer, Room 14N-39, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Maternal, Infant, and Early Childhood Home Visiting Program Funding Opportunity Announcement for Formula Grant Awards OMB No. 0906-xxxx—New.

Abstract: The Maternal, Infant, and Early Childhood Home Visiting (Federal Home Visiting) Program, administered by the Health Resources and Services Administration (HRSA) in close partnership with the Administration for Children and Families (ACF), supports voluntary, evidence-based home visiting services during pregnancy and to parents with young children up to kindergarten entry. Formula grant awards support Federal Home Visiting Program grantees in meeting statutory and programmatic objectives for implementing high quality home visiting programs and coordinating with comprehensive statewide early childhood systems. All fifty states, the District of Columbia, five territories, and nonprofit organizations that would provide services in jurisdictions that have not directly applied for or been approved for a grant are eligible to receive formula grant awards. There are currently 56 entities with formula grant awards.

Need and Proposed Use of the Information: This information collection is requested for eligible entities to submit applications in response to annual formula Funding Opportunity Announcements (FOA) beginning in Fiscal Year (FY) 2017.

On March 23, 2010, the President signed into law the Patient Protection and Affordable Care Act (ACA). Section 2951 of the ACA amended Title V of the Social Security Act by adding a new section, 511, which authorized the creation of the Federal Home Visiting Program. A portion of funding under this program is awarded to participating states and eligible jurisdictions using a funding formula. Formula funding is the main funding mechanism used by HRSA to provide support to eligible entities for the provision of voluntary high-quality home visiting services to families living in at-risk communities.

The information collected will be used to provide guidance to eligible entities on how to prepare and submit applications in response to annual FOAs beginning in FY 2017. The application will provide project plans and budgets for upcoming years. This information will permit federal staff to assess whether the proposed activities align with statutory and programmatic requirements and objectives and will result in the implementation of a high-quality project. Applications in response to annual FOAs are submitted via Grants.gov.

Failure to collect this information would result in the inability of HRSA to collect information necessary for the determination of the responsiveness and quality of applications and would subject the government to undue risk in awarding formula funds under the Federal Home Visiting Program. Applicants will be required to submit several types of information in addition to the SF-424 Forms which are included under a separate Information Collection Request. These types of information include: (1) Project Abstract, (2) Project Narrative, (3) Budget Justification, (4) Program-Specific Forms and Tables, and (5) Attachments.

Likely Respondents: Eligible entities under the Social Security Act, Title V, Section 511(c) (42 U.S.C., Section 711(c)), as added by Section 2951 of the ACA (Pub. L. 111-148).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Federal Home Visiting Program Formula Funding Opportunity Announcement | 56 | 1 | 56 | 80 | 4,480
Total | 56 | 1 | 56 | 80 | 4,480

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2016-07319 Filed 3-31-16; 8:45 am]

BILLING CODE 4165-15-P